DEPARTMENT OF ENERGY

Federal Energy Regulatory Commission

[Project No. 1432-014]

PB Energy, Inc.; Notice of Application Tendered for Filing With the Commission, Soliciting Additional Study Requests, and Intent To Waive Second Stage Consultation

Take notice that the following hydroelectric application has been filed with the Commission and is available for public inspection.

a. Type of Application: Subsequent license.

b. Project No.: P-1432-014.

c. Date filed: May 30, 2018.

d. Applicant: PB Energy, Inc.

e. Name of Project: Dry Spruce Bay Project.

f. Location: On an unnamed creek near Port Bailey in Kodiak Island Borough, Alaska. The projects occupies 44 acres of land managed by the Bureau of Land Management.

g. Filed Pursuant to: Federal Power Act 16 U.S.C. 791(a)-825(r).

h. Applicant Contact: David and Nickie Sutherlin, 685 Spring St., PMB 296, Friday Harbor, WA 98250, (305) 898-3223.

i. FERC Contact: Ryan Hansen, 888 1st St. NE, Washington, DC 20426, (202) 502-8074, ryan.hansen@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 30, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14795-002.

m. Due to the small size and remote location of this project, the applicant's coordination with tribal, state, and federal agencies during the preparation of the application, and the lack of interest during pre-filing consultation, we intend to accept the consultation that has occurred on this project during the pre-filing period as satisfying our requirements for the standard 3-stage consultation process under 18 CFR 4.38.

n. The application is not ready for environmental analysis at this time.

o. The hydroelectric project includes: A 920-foot-long, 50-foot-wide ditch diverting water from an unnamed stream to an upper pond; a 12.59-acre upper pond created by A 200-foot-long, 50-foot-wide, 5-foot-high earthen dam with a spillway and a 200-foot-long overflow ditch; a short metal flume and a 275-foot-long, 12-inch-diameter wood stave pipe conveying water from the upper pond to the lower pond; a 1000-foot-long, 50-foot-wide ditch diverting water from an unnamed stream to the lower pond; a 2.2-acre lower pond created by a 200-foot-long, 50-foot-wide, 5-foot-high earthen dam; a 6,772-foot-long PVC and steel penstock conveying water from the lower pond to the powerhouse; a steel powerhouse with a 75-kilowatt Pelton turbine; a short transmission line; and appurtenant facilities. The annual generation is 3,000 megawatt-hours.

p. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

q. Procedural schedule: The application will be processed according to the following preliminary Hydro Licensing Schedule. Revisions to the schedule will be made as appropriate.

Issue Notice of Acceptance | August 2018.
Issue Scoping Document 1 for comment | September 2018.
Comments on Scoping Document 1due | October 2018.
Issue notice of ready for environmental analysis | December 2018.
Commission issues EA | April 2019.
Comments on EA | May 2019.

Dated: June 6, 2018.
Nathaniel J. Davis, Sr.,
Deputy Secretary.

[FR Doc. 2018-12583 Filed 6-11-18; 8:45 am]

BILLING CODE 6717-01-P